DEPARTMENT OF COMMERCE

National Institute of Standards and Technology

Announcement of Body Armor Research Needs Meeting

AGENCY: National Institute of Standards and Technology, Department of Commerce.

ACTION: Notice of meeting.

SUMMARY: The National Institute of Standards and Technology (NIST) invites interested parties to attend a one-day High Strength Fiber and Body Armor Research Needs Meeting. The Meeting will provide a forum to discuss test methods, technologies, and R&D that can significantly improve ballistic protection through the examination of such issues as material longevity, new materials, and improved testing methodologies for body armor (e.g., improved blunt trauma measurement and correlation to injury).

DATES: The Body Armor Research Needs Meeting will be held June 15, 2010. The workshop will be held from 9 a.m. to 5 p.m. Members of the public wishing to attend the meeting must notify Cindy Stanley by C.O.B June 4, 2010, per instructions under the SUPPLEMENTARY INFORMATION section of this notice.

ADDRESSES: The workshop will be held at the National Institute of Standards and Technology (NIST), 100 Bureau Drive, Building 101, Lecture Room B, Gaithersburg, MD 20899.

FOR FURTHER INFORMATION CONTACT: Cindy Stanley, 100 Bureau Dr. M/S 8102, Gaithersburg, MD 20899-8102, 301-975-2756, stanleyc@nist.gov.

SUPPLEMENTARY INFORMATION: The Meeting program will include experts from the standards, research, and testing communities. Presentations on today's challenges in body armor and material longevity research will be given. Among the topics to be discussed are the need for the formation of research collaborations between the manufacturing community (including fiber producers, fabric producers, and armor manufacturers) and government and academic researchers.

The goal of the meeting is to identify potential areas for research collaboration between body armor industry representatives and the Federal Government. In this regard, the Meeting will explore:

• Life Cycle Testing for Body Armor

• Improved Test Methods for Body Armor

• The Role of Federal Agencies and Standards Committees

• Opportunities for Collaboration

We expect this workshop to provide a strong foundation for follow-on efforts among government agencies, industry, and academia to

• Identify/define research needs for body armor

• Develop performance standards

• Demonstrate performance metrics

All visitors to the National Institute of Standards and Technology site will have to pre-register to be admitted. Anyone wishing to attend this meeting must register by C.O.B June 4, 2010 in order to attend. Please submit your name, e-mail address, and phone number to Cindy Stanley, and you will be provided instructions for admittance. Non-U.S. citizens must also submit their country of citizenship, passport issuing country, passport number, city of birth, country of birth, date of birth, gender, title, phone number, current mailing address, employer/sponsor, phone and address. Cindy Stanley's e-mail address stanleyc@nist.gov and her phone number is (301) 975-2756.

Dated: May 3, 2010.
Katharine B. Gebbie,
Director, Physics Laboratory.

[FR Doc. 2010-10847 Filed 5-6-10; 8:45 am]

BILLING CODE 3510-13-P